DEPARTMENT OF DEFENSE

Department of the Navy

Record of Decision for Surveillance Towed Array Sensor System Low Frequency Active Sonar

AGENCY: Department of the Navy, DoD.

ACTION: Notice of decision and availability.

SUMMARY: The Department of the Navy, after carefully weighing the operational, scientific, technical, and environmental implications of the alternatives considered, announces its decision to employ up to four Surveillance Towed Array Sensor System Low Frequency Active (SURTASS LFA) sonar systems with certain geographical restrictions and monitoring mitigation designed to reduce potential adverse effects on the marine environment. This decision, which pertains to the employment of up to four SURTASS LFA sonar systems (as originally analyzed in the 2001 Final Overseas Environmental Impact Statement and Environmental Impact Statement [FOEIS/EIS] for SURTASS LFA Sonar) initially augmented in the 2007 Final Supplemental Environmental Impact Statement [FSEIS]), and further augmented on the 2012 Final Supplemental Environmental Impact Statement/Overseas Environmental Impact Statement (FSEIS/SOEIS) implements the preferred alternative, Alternative 2, identified in the 2012 FSEIS/SOEIS for SURTASS LFA sonar.

SUPPLEMENTARY INFORMATION: The full text of the Record of Decision (ROD) is available for public viewing and download at http://www.surtass-lfa-eis.com/. Single copies of the ROD will be made available upon request by contacting the SURTASS LFA Sonar SEIS/SOEIS Team, 4100 N. Fairfax Dr., Suite 730, Arlington, VA 22203, or email: eisteam@mindspring.com.

Dated: August 17, 2012.
C.K. Chiappetta,
Lieutenant Commander, Office of the Judge Advocate General, U.S. Navy, Administrative Law Division, Federal Register Liaison Officer.

[FR Doc. 2012-21324 Filed 8-28-12; 8:45 am]

BILLING CODE 3810-FF-P